DEPARTMENT OF COMMERCE

Foreign-Trade Zones Board

[Order No. 1990]

Approval of Subzone Status, Outokumpu Stainless USA, LLC, Calvert, Alabama

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the City of Mobile, grantee of Foreign-Trade Zone 82, has made application to the Board for the establishment of a subzone at the facility of Outokumpu Stainless USA, LLC, located in Calvert, Alabama (FTZ Docket B-62-2015, docketed September 10, 2015);

Whereas, notice inviting public comment has been given in the Federal Register (80 FR 56962, September 21, 2015) and the application has been processed pursuant to the FTZ Act and the Board's regulations; and,

Whereas, the Board adopts the findings and recommendations of the examiner's memorandum, and finds that the requirements of the FTZ Act and the Board's regulations are satisfied;

Now, therefore, the Board hereby approves subzone status at the facility of Outokumpu Stainless USA, LLC, located in Calvert, Alabama (Subzone 82I), as described in the application and Federal Register notice, subject to the FTZ Act and the Board's regulations, including Section 400.13.

Signed at Washington, DC, this 20th day of November, 2015.
Paul Piquado,
Assistant Secretary of Commerce for Enforcement and Compliance, Alternate Chairman, Foreign-Trade Zones Board.
Andrew McGilvray,
Executive Secretary.

[FR Doc. 2015-30509 Filed 11-30-15; 8:45 am]

BILLING CODE 3510-DS-P